DEPARTMENT OF ENERGY

Federal Energy Regulatory Commission

[Project Nos.: P-2197-073 and P-2206-030]

Alcoa Power Generating, Inc.; Notice of Application Accepted for Filing and Soliciting Motions To Intervene and Protests

December 28, 2006.

Take notice that the following hydroelectric applications have been filed with the Commission and are available for public inspection.

a. Type of Applications: New Major Licenses.

b. Project Nos.: P-2197-073 and P-2206-030.

c. Dates filed: April 25, 2006 and April 26, 2006.

d. Applicants: Alcoa Power Generating, Inc. and Carolina Power and Light Company d/b/a/ Progress Energy Carolinas, Inc.

e. Names of Projects: Yadkin Hydroelectric Project and Yadkin-Pee Dee River Hydroelectric Project.

f. Locations: The Yadkin Project is located on the Yadkin River in Davidson, Davie, Montgomery, Rowan, and Stanly Counties, North Carolina. The Yadkin-Pee Dee River Project is located on the Yadkin and Pee Dee Rivers in Anson, Montgomery, Richmond, and Stanly Counties, North Carolina. There are no federal lands affected by these projects.

g. Filed Pursuant to: Federal Power Act, 16 U.S.C. §§ 791(a)-825(r).

h. Applicant Contacts: Yadkin Project—Mr. Gene Ellis, Licensing and Property Manager, Alcoa Power Generating, Inc., Yadkin Division, P.O. Box 576, NC Highway 740, Badin, NC 28009-0576.

Yadkin-Pee Dee Project—E. Michael Williams, Senior Vice President Power Operations, Progress Energy, 410 S. Wilmington Street PEB 13, Raleigh, North Carolina 27602; Telephone (919) 546-6640.

i. FERC Contacts: Stephen Bowler at (202) 502-6861 or stephen.bowler@ferc.gov, or Lee Emery at (202) 502-8379 or lee.emery@ferc.gov.

j. Deadline for filing motions to intervene and protests: February 26, 2007.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's Web site (http://www.ferc.gov) under the “e-Filing” link.

k. This application has been accepted, but is not ready for environmental analysis at this time.

l. The existing Yadkin Project consists of four developments on the Yadkin River: High Rock, Tuckertown, Narrows, and Falls. The High Rock development is the furthest upstream development, located at river mile (RM) 253, and includes the following existing facilities: (1) A dam and spillway; (2) 10 flood gates; (3) a 14,400-acre reservoir, with a normal pool elevation of 623.9 feet U.S. Geological Survey (USGS) datum and a usable storage capacity of 217,400 acre-feet; and (4) a powerhouse, integral to the dam, containing three turbine-generator units with a total installed capacity of 32 megawatts (MW).

The Tuckertown development (RM 244.3) includes the following existing facilities: (1) Dam; (2) spillway with 11 gates; (3) a 2,560-acre reservoir, with a normal pool elevation of 564.7 feet USGS and a usable storage capacity of 6,700 acre-feet; and (4) a powerhouse, integral to the dam, containing three turbine-generator units with a total installed capacity of 38 MW.

The Narrows development (RM 236.5) includes the following existing facilities: (1) A dam and spillway; (2) 22 flood gates and a trash gate; (3) an intake structure with four openings each with two gates; (4) four penstocks; (5) a powerhouse downstream of the dam; (6) a bypass spillway with 10 control gates and a trash gate; (7) a 5,355-acre reservoir, with a normal pool elevation of 509.8 feet USGS and a usable storage capacity of 129,100 acre-feet; and (8) four turbine-generators with a total installed capacity of 108 MW.

The Falls development (RM 234) includes the following constructed facilities: (1) A dam; (2) a spillway with 12 flood gates and a trash gate; (3) a 204-acre reservoir, with a normal pool elevation of 332.8 feet USGS and a usable storage capacity of 940 acre-feet; and (4) a powerhouse, integral to the dam, and containing three turbine-generators with a total installed capacity of 31 MW.

Alcoa Generating operates the High Rock development in a store-and-release mode and the Tuckertown, Narrows, and Falls developments in a run-of-river mode on a daily basis. The High Rock development provides storage for the three downstream developments. The maximum annual drawdown for High Rock is 13 feet.

The existing Yadkin-Pee Dee Project consists of the Tillery development on the Yadkin and Pee Dee Rivers and the Blewett Falls development on the Pee Dee River. The Tillery development (RM 218) includes the following existing facilities: (1) A dam and spillway; (2) 18 flood gates; (3) a trash sluice gate; (4) a 5,697-acre reservoir, with a normal pool elevation of 277.3 feet North American Vertical Datum of 1988 (NAVD 88) and a usable storage capacity of 84,150 acre-feet; (5) a powerhouse, integral to the dam, containing four turbine-generators with a total installed capacity of 84 MW; and (6) a small turbine powering a “house generator” with an installed capacity of 360 kW.

The Blewett Falls development (RM 188.2) includes the following existing facilities: (1) A dam and spillway; (2) wooden flashboards; (3) a 2,866-acre reservoir, with a normal pool elevation of 177.2 feet NAVD 88 and a usable storage capacity of 30,893 acre-feet; (4) a powerhouse, integral to the dam, containing six pairs of turbine-generators, each pair with its own penstock and headgate, for a total installed capacity of 24.6 MW; and (5) a 900-foot-long tailrace channel.

The Tillery development is operated as a peaking facility with a typical drawdown of not more than 4 feet under normal conditions. The Blewett Falls development is operated as a re-regulating facility, smoothing out flows released from the upstream developments.

Alcoa Generating and Progress Energy propose to continue operating the projects with proposed protection and enhancement measures.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Magalie R. Salas,
Secretary.

[FR Doc. E6-22679 Filed 1-5-07; 8:45 am]

BILLING CODE 6717-01-P